DEPARTMENT OF JUSTICE

National Institute of Justice

[OJP (NIJ) Docket No. 1662]

National Institute of Justice Compliance Testing Program's Compliant Product List for Ballistic Body Armor

AGENCY: National Institute of Justice, Department of Justice.

ACTION: Notice.

SUMMARY: Notice regarding the removal of Compliant Product Lists (CPL) of ballistic resistant body armor models that met superseded versions of the National Institute of Justice (NIJ) Body Armor Standard.

DATES: Effective: August 25, 2014.

FOR FURTHER INFORMATION CONTACT: Daniel Longhurst, NIJ CTP by email at bactp@justnet.org, or by telephone at (202) 616-3857.

SUPPLEMENTAL INFORMATION: The National Institute of Justice (NIJ)-supported Compliance Testing Program (CTP) publishes on-line Compliant Product Lists (CPLs) of ballistic resistant body armor models that have satisfactorily demonstrated compliance with NIJ's Body Armor Standard.

It has been NIJ's practice to continue to provide the CPLs associated with superseded versions of the standard for purposes of historical reference. The NIJ CTP currently provides four CPLs associated with the following four specifications:

1. NIJ Standard 0101.03, Ballistic Resistance of Police Body Armor;

2. NIJ Standard-0101.04, Ballistic Resistance of Personal Body Armor;

3. NIJ 2005 Interim Requirements for Bullet-Resistant Body Armor; and

4. NIJ Standard-0101.06, Ballistic Resistance of Body Armor. (Current)

Each subsequent version of the Body Armor standard incorporates new research and understanding of body armor performance with direct implications for officer safety. The existence of the CPLs associated with superseded versions of the NIJ Body Armor Standard may lead officers and agencies to believe that the body armor models listed on those CPLs have been tested to the most current version of the NIJ Body Armor Standard. To eliminate the potential for such confusion, the CTP intends to remove all older versions of the CPLs and only maintain the CPL associated with the current version of the NIJ Body Armor Standard.

When NIJ Standard 0101.06 is next revised, and for future revisions beyond that, NIJ plans to maintain the superseded CPL for a period of 12-months after publication of the revised standard to enable agencies to complete purchasing actions initiated, but not completed, when the prior version of the standard was in effect.

Greg Ridgeway,
Acting Director, National Institute of Justice.

[FR Doc. 2014-16212 Filed 7-10-14; 8:45 am]

BILLING CODE 4410-18-P